SECURITIES AND EXCHANGE COMMISSION

[Release No. 34-45325; File No. SR-CHX-99-18]

Self-Regulatory Organizations; The Chicago Stock Exchange, Inc.; Order Granting Approval to Proposed Rule Change Relating to the Display of Limit Orders on the Exchange

January 23, 2002.

On September 24, 1999, The Chicago Stock Exchange, Inc. (“CHX” or “Exchange”) filed with the Securities and Exchange Commission (“Commission”), pursuant to section 19(b)(1) of the Securities Exchange Act of 1934 (“Act”)¹ and Rule 19b-4 thereunder,² a proposed rule change to conform its limit order display requirements under CHX Article XX, Rule 7, to Rule 11Ac1-4 under the Act.³ The proposed rule change was published for comment in the Federal Register on December 11, 2001.⁴ The Commission received no comments on the proposal.

¹ 15 U.S.C. 78s(b)(1).

² 17 CFR 240.19b-4.

³ 17 CFR 240.11Ac1-4.

⁴ See Securities Exchange Act Release No. 45122 (December 4, 2001), 66 FR 64066.

The Commission finds that the proposed rule change is consistent with the requirements of the Act and the rules and regulations thereunder applicable to a national securities exchange ⁵ and, in particular, the requirements of section 6 of the Act ⁶ and the rules and regulations thereunder. The Commission finds specifically that the proposed rule change is consistent with section 6(b)(5) of the Act ⁷ because it will allow the CHX to treat limit orders in a manner consistent with the requirements of Rule 11Ac1-4.⁸

⁵ In approving this proposed rule change, the Commission has considered the proposed rule's impact on efficiency, competition, and capital formation. 15 U.S.C. 78c(f).

⁶ 15 U.S.C. 78f.

⁷ 15 U.S.C. 78f(b)(5).

⁸ 17 CFR 240.11Ac1-4.

It is therefore ordered, pursuant to section 19(b)(2) of the Act ⁹, that the proposed rule change (SR-CHX-99-18) be, and it hereby is, approved.

⁹ 15 U.S.C. 78s(b)(2).

For the Commission, by the Division of Market Regulation, pursuant to delegated authority.¹⁰
¹⁰ 17 CFR 200.30-3(a)(12).
Margaret H. McFarland,
Deputy Secretary.

[FR Doc. 02-2117 Filed 1-28-02; 8:45 am]

BILLING CODE 8010-01-P